DEPARTMENT OF EDUCATION

Reopening; Applications for New Awards; Student Support Services Program

AGENCY: Office of Postsecondary Education, Department of Education.

ACTION: Notice.

SUMMARY: On May 1, 2024, we published in the Federal Register a notice inviting applications (NIA) for the fiscal year (FY) 2025 Student Support Services (SSS) Program, Assistance Listing Number 84.042A. The NIA established a deadline date of July 15, 2024, for the transmittal of applications. For eligible applicants located in counties in Texas that are covered by a major disaster declaration issued by the President, this notice reopens the competition until July 30, 2024 and extends the date of intergovernmental review until September 30, 2024.

DATES:

Deadline for Transmittal of Applications: July 30, 2024.

Deadline for Intergovernmental Review: September 30, 2024.

FOR FURTHER INFORMATION CONTACT: Lavelle Wright. Telephone: (202) 987-1300. Email: Lavelle.Wright@ed.gov.

If you are deaf, hard of hearing, or have a speech disability and wish to access telecommunications relay services, please dial 7-1-1.

SUPPLEMENTARY INFORMATION: On May 1, 2024, we published the NIA in the Federal Register (89 FR 35080). Under the NIA, applications were due on July 15, 2024. We are reopening this competition to allow affected applicants (as defined under Eligibility) more time—until July 30, 2024—to prepare and submit their applications.

Eligibility: The extended application deadline applies only to eligible applicants under the FY 2025 SSS Program competition that are affected applicants. An eligible applicant for this competition is defined in the NIA. To qualify as an affected applicant, the applicant must have a mailing address that is located in the federally declared disaster area and must provide appropriate supporting documentation, if requested.

The applicable federally declared disaster area under this declaration is the area in which assistance to individuals or public assistance has been authorized under FEMA's disaster declaration for Texas Hurricane Beryl DR-4798-TX. See the disaster declaration available at https://www.fema.gov/disaster/4798.

Affected applicants that have already timely submitted applications under the FY 2025 SSS Program competition may resubmit applications on or before the extended application deadline of July 30, 2024, but are not required to do so. If a new application is not submitted, the Department will use the application that was submitted by the original deadline. If a new application is submitted, the Department will consider the application that is last submitted and timely received by 11:59:59 p.m., Eastern Time, on July 30, 2024.

Any application submitted by an affected applicant under the extended deadline must contain evidence (e.g., the applicant organization mailing address) that the applicant is located in the applicable federally declared disaster area and, if requested, the applicant must provide appropriate supporting documentation.

The application period is not reopened for all applicants. Applications from applicants that are not affected, as defined above, will not be accepted past the original July 15, 2024 deadline.

Note: All information in the NIA for this competition remains the same, except for the deadline for the transmittal of applications for affected applicants and the deadline for intergovernmental review.

Program Authority: 20 U.S.C. 1070a-11 and 20 U.S.C. 1070a-14.

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Nasser Paydar,
Assistant Secretary for Postsecondary Education.

[FR Doc. 2024-16377 Filed 7-24-24; 8:45 am]

BILLING CODE 4000-01-P